LEGAL SERVICES CORPORATION

Sunshine Act Meeting of the Board of Directors

Amended Notice; Technical Correction to the Agenda

Notice

The Legal Services Corporation (LSC) is announcing a technical amendment to the notice of a meeting of the Board of Directors. The amendment is being made to reflect a technical correction to the meeting Agenda. There are no other changes.

Specifically, the following correction has been made to the agenda.

• The language at item 2 has been corrected to read: “Consider and act on Board of Directors' response to the LSC Inspector General's Semiannual Report to Congress for the period of April 1, 2005 through September 30, 2005.” [Emphasis added.]

TIME AND DATE: November 28, 2005 at 12 p.m. (e.s.t.).

LOCATION: The Legal Services Corporation, 3333 K Street, NW., Washington, DC, 3rd Floor.

STATUS OF MEETING: Open.

Amended Agenda

MATTERS TO BE CONSIDERED:

Open Session

1. Approval of the agenda.

2. Consider and act on Board of Directors' response to the LSC Inspector General's Semiannual Report to Congress for the period of April 1, 2005 through September 30, 2005.

3. Consider and act on other business.

4. Public comment.

5. Consider and act on adjournment of meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: November 16, 2005.
Victor M. Fortuno,
Vice President for Legal Affairs, General Counsel & Corporate Secretary.

[FR Doc. 05-23034 Filed 11-16-05; 3:13 pm]

BILLING CODE 7050-01-P